DEPARTMENT OF DEFENSE

Office of the Secretary

[Docket No. DoD-2008-OS-0043]

Submission for OMB Review; Comment Request

ACTION: Notice.

The Department of Defense has submitted to OMB for clearance, the following proposal for collection of information under the provisions of the Paperwork Reduction Act (44 U.S.C. Chapter 35).

DATES: Consideration will be given to all comments received by August 28, 2008.

Title, Form, and OMB Number: Utility of Test Preparation Guides and Education Programs in Enhancing Recruit Candidate Performance on the Armed Services Vocational Aptitude Battery (ASVAB), OMB Number 0704-TBD.

Type of Request: New.

Number of Respondents: 145,000.

Responses per Respondent: 1 or 2.

Annual Responses: 145,000.

Average Burden per Response: 12 minutes.

Annual Burden Hours: 33,350.

Needs and Uses: The 2007 National Defense Authorization Act (NDAA), section 546, directs the Secretary of Defense to conduct a test of the utility of test preparation guides in enhancing recruit candidate performance on the Armed Services Vocational Aptitude Battery (ASVAB). The ASVAB is a cognitive ability test used to select and classify applicants for enlistment into the U.S. military. This information data collection is needed to meet the following objectives, as stated in the NDAA, to examine: The degree to which test preparation assistance degrades test reliability and accuracy, the degree to which test preparation assistance allows more accurate testing of skill aptitudes and mental capability, and to recommend a role for test preparation assistance in military recruiting.

Affected Public: Individuals or households.

Frequency: On Occasion.

Respondent's Obligation: Voluntary.

OMB Desk Officer: Ms. Sharon Mar.

Written comments and recommendations on the proposed information collection should be sent to Ms. Mar at the Office of Management and Budget, Desk Officer for DoD, Room 10236, New Executive Office Building, Washington, DC 20503. Comments may be e-mail to Ms. Mar at Sharon_Mar@omb.eop.gov.You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings.

Written requests for copies of the information collection proposal should be sent to Ms. Toppings at WHS/ESD/Information Management Division, 1777 North Kent Street, RPN, Suite 11000, Arlington, VA 22209-2133.

July 21, 2008.
Patricia L. Toppings,
Alternate OSD Federal Register Liaison Officer, Department of Defense.

[FR Doc. E8-17323 Filed 7-28-08; 8:45 am]

BILLING CODE 5001-06-P